DEPARTMENT OF AGRICULTURE

Forest Service

Notice of Proposed New Fee Sites; Federal Lands Recreation Enhancement Act, (Title VIII, Pub. L. 108-447)

AGENCY: Manti-La Sal National Forest, USDA Forest Service.

ACTION: Notice of Proposed New Fee Sites.

SUMMARY: The Manti-La Sal National Forest is proposing to charge fees at four campsites. All sites will have been constructed and amenities added to improve the services and experience at the campgrounds. Fees are assessed based on the level of amenities and services provided, cost of operation and maintenance, market assessment, and public comment. Funds from fees would be used for the continued operation and maintenance of these recreation sites.

Lake Canyon Recreation Area is a fee campground with 54 campsites. Depending on the terrain and location within the Lake Canyon Recreation Area, a number of campsites are clustered together in a loop and identified by a name. Three single campsites and one group site are being developed as part of a major restoration effort and proposed fee sites in the Miller Flat loop of Lake Canyon along with 44 less developed free sites. Fire rings, picnic tables, a cooking station, a kiosk, toilet, and roaded access and will be installed. A host is on site in the area. Lake Canyon Recreation Area is popular for ATV use. Major loops of campsites are connected by trails that connect with the Arapeen Trail system and nearby fisheries. Also located within this area are three learners' loops where children and adults can learn to ride their vehicle close to their campsite. The wide open area at Miller Flat has been an encouraging factor in the development of numerous unauthorized roads and camping. The restoration project has closed unauthorized trails and defined camping to an acceptable area. A financial analysis is being completed to assist in determining the fees, but the proposal is to keep the site fees consistent with other campsites in the Lake Canyon Recreation Area. The fee currently charged in Lake Canyon Recreation Area is being proposed at Miller Flat; $5 per vehicle per night for a single family campsite and $50 per night for a group site. All sites are proposed to be on the reservation system. If the group site is not reserved, first-come-first served campers may use the group site for $5 per vehicle per night. The additional campsites will greatly improve the resources, sanitation and recreation conditions. Fees would be used to continue to help protect and maintain the resources and campsites.

ADDRESSES: Allen Rowley, Acting Forest Supervisor, Manti-La Sal National Forest, 599 West Price River Drive, Price, Utah 84501.

FOR FURTHER INFORMATION CONTACT: Ann King, Public Service Group Leader, 435-636-3535. Information about the proposed fees can also be found on the Manti-La Sal National Web site: http://www.fs.fed.us/r4/mantilasal/.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. People wanting reserve these sites at Lake Canyon Recreation Area would need to do so through the National Recreation Reservation Service, at www.recreation.gov or by calling 1-877-444-6777 when it becomes available.

Dated: March 26, 2013.
Allen Rowley,
Manti-La Sal National Forest Acting Forest Supervisor.

[FR Doc. 2013-07448 Filed 3-29-13; 8:45 am]

BILLING CODE 3410-11-P